DEPARTMENT OF HOMELAND SECURITY

Federal Emergency Management Agency

[Docket ID FEMA-2021-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama: Tuscaloosa (FEMA Docket No: B-2076). | City of Tuscaloosa (20-04-2661P). | The Honorable Walt Maddox, Mayor, City of Tuscaloosa, P.O. Box 2089, Tuscaloosa, AL 35403. | City Hall, 2201 University Boulevard, Tuscaloosa, AL 35401 | Jan. 4, 2021 | 010203
Colorado:
Boulder (FEMA Docket No.: B-2064). | City of Boulder (20-08-0376P). | The Honorable Sam Weaver, Mayor, City of Boulder, P.O. Box 791, Boulder, CO 80306. | Central Records Department, 1777 Broadway, Boulder, CO 80306. | Jan. 7, 2021 | 080024
Boulder (FEMA Docket No.: B-2064). | Town of Jamestown (20-08-0179P). | The Honorable Tara Schoedinger, Mayor, Town of Jamestown, P.O. Box 298, Jamestown, CO 80455. | Town Hall, 118 Main Street, Jamestown, CO 80455. | Jan. 11, 2021 | 080216
Connecticut: New Haven (FEMA Docket No.: B-2067). | Town of Branford (20-01-0799P). | The Honorable James B. Cosgrove, First Selectman, Town of Branford Board of Selectmen, 1019 Main Street, Branford, CT 06405. | Engineering Department, 1019 Main Street, Branford, CT 06405. | Jan. 15, 2021 | 090073
Florida:
Lake (FEMA Docket No.: B-2067). | City of Leesburg (20-04-0931P). | Mr. Al Minner, Manager, City of Leesburg, 501 West Meadow Street, Leesburg, FL 34748. | Planning and Zoning Department, 204 North 5th Street, Leesburg, FL 34748. | Jan. 13, 2021 | 120136
Lake (FEMA Docket No.: B-2067). | Unincorporated areas of Lake County (20-04-0931P). | The Honorable Leslie Campione, Chair, Lake County Board of Commissioners, 315 West Main Street, Tavares, FL 32778. | Lake County Public Works Department, 323 North Sinclair Avenue, Tavares, FL 32778. | Jan. 13, 2021 | 120421
Monroe (FEMA Docket No.: B-2064). | Unincorporated areas of Monroe County (20-04-3334P). | The Honorable Heather Carruthers, Mayor, Monroe County Board of Commissioners, 500 Whitehead Street, Suite 102, Key West, FL 33040. | Monroe County Building Department, 2798 Overseas Highway, Suite 300, Marathon, FL 33050. | Jan. 4, 2021 | 125129
Georgia:
Mitchell (FEMA Docket No.: B-2064). | Unincorporated areas of Mitchell County (20-04-3145P). | The Honorable Benjamin Hayward, Chairman, Mitchell County Board of Commissioners, 26 North Court Street, Camilla, GA 31730. | Mitchell County Building and Zoning Department, 26 North Court Street, Camilla, GA 31730. | Jan. 7, 2021 | 130438
Oconee (FEMA Docket No.: B-2064). | City of Watkinsville, (19-04-6350P). | The Honorable Bob Smith, Mayor, City of Watkinsville, 191 VFW Drive, Watkinsville, GA 30677. | City Hall, 191 VFW Drive, Watkinsville, GA 30677. | Jan. 8, 2021 | 130369
North Carolina: Brunswick (FEMA Docket No.: B-2064). | Unincorporated areas of Brunswick County (20-04-4291P). | The Honorable Frank Williams, Chairman, Brunswick County Board of Commissioners, P.O. Box 249, Bolivia, NC 28422. | Brunswick County Department of Floodplain Management Department, 75 Courthouse Drive, Building 1, Bolivia, NC 28422. | Jan. 4, 2021 | 370295
Oregon: Washington (FEMA Docket No.: B-2059). | Unincorporated areas of Washington County, (19-10-1199P). | The Honorable Kathryn Harrington, Chair, Washington County Board of Commissioners, 155 North 1st Avenue, Suite 300, Hillsboro, OR 97124. | Washington County Land Use and Transportation Department, 1400 Southwest Walnut Street, Hillsboro, OR 97123. | Jan. 4, 2021 | 410238
Texas:
Collin and Dallas (FEMA Docket No.: B-2064). | City of Sachse (20-06-1068P). | Ms. Gina Nash, Manager, City of Sachse, 3815 Sachse Road, Building B, Sachse, TX 75048. | Engineering Department, 3815 Sachse Road, Building B, Sachse, TX 75048. | Jan. 8, 2021 | 480186
Ellis (FEMA Docket No.: B-2064). | City of Midlothian (20-06-1890P). | The Honorable Richard Reno, Mayor, City of Midlothian, 104 West Avenue E, Midlothian, TX 76065. | City Hall, 104 West Avenue E, Midlothian, TX 76065. | Jan. 15, 2021 | 480801
Ellis (FEMA Docket No.: B-2064). | Unincorporated areas of Ellis County (20-06-1084P). | The Honorable Todd Little, Ellis County Judge, 101 West Main Street, Waxahachie, TX 75165. | Ellis County Engineering Department, 109 South Jackson Street, Waxahachie, TX 75165. | Jan. 4, 2021 | 480798
Guadalupe (FEMA Docket No.: B-2064). | City of Cibolo (20-06-0736P). | Mr. Robert T. Herrera, Manager, City of Cibolo, 200 South Main Street, Cibolo, TX 78108. | Geographic Information Systems (GIS) Department, 200 South Main Street, Cibolo, TX 78108. | Jan. 7, 2021 | 480267
Guadalupe (FEMA Docket No.: B-2064). | City of Schertz (20-06-0736P). | Mr. Mark Browne, Manager, City of Schertz, 1400 Schertz Parkway, Schertz, TX 78154. | Geographic Information Systems (GIS) Department, 10 Commercial Place, Schertz, TX 78154. | Jan. 7, 2021 | 480269
Johnson (FEMA Docket No.: B-2064). | City of Venus (20-06-1084P). | The Honorable James L Burgess, Mayor, City of Venus, 700 West Highway 67, Venus, TX 76084. | Public Works and Water/Sewer Department, 700 West Highway 67, Venus, TX 76084. | Jan. 4, 2021 | 480883
Utah: Davis (FEMA Docket No.: B-2064). | City of Clearfield (20-08-0267P). | Mr. J.J. Allen, Manager, City of Clearfield, 55 South State Street, Clearfield, UT 84015. | City Hall, 55 South State Street, Clearfield, UT 84015. | Jan. 4, 2021 | 490041
Virginia: Loudoun (FEMA Docket No.: B-2064). | Unincorporated areas of Loudoun County (20-03-0748P). | Mr. Tim Hemstreet, Loudoun County Administrator, P.O. Box 7000, Leesburg, VA 20177. | Loudoun County Mapping and Geographic Information Department, 1 Harrison Street Southeast, Leesburg, VA 20175. | Dec. 28, 2020 | 510090

[FR Doc. 2021-02429 Filed 2-4-21; 8:45 am]

BILLING CODE 9110-12-P